POSTAL SERVICE

Board of Governors; Sunshine Act Meeting

DATES AND TIMES: October 6, 2020, at 9 a.m.

PLACE: Washington, DC

STATUS: Closed.

MATTERS TO BE CONSIDERED:

Tuesday, October 6, 2020, at 9 a.m.

1. Strategic Items.

2. Financial and Operational Matters.

3. Administrative Items.

GENERAL COUNSEL CERTIFICATION: The General Counsel of the United States Postal Service has certified that the meeting may be closed under the Government in the Sunshine Act.

CONTACT PERSON FOR MORE INFORMATION: Katherine Sigler, Acting Secretary of the Board, U.S. Postal Service, 475 L'Enfant Plaza SW, Washington, DC 20260-1000. Telephone: (202) 268-4800.

Joshua J. Hofer,
Attorney, Federal Compliance.

[FR Doc. 2020-22614 Filed 10-8-20; 11:15 am]

BILLING CODE 7710-12-P